DEPARTMENT OF DEFENSE

Department of the Army, Corps of Engineers

Intent To Prepare a Draft Environmental Impact Statement (DEIS) for the Matilija Dam Ecosystem Restoration Feasibility Study, Ventura County, CA

AGENCY: Army Corps of Engineers, DoD.

ACTION: Notice of intent.

SUMMARY: The Los Angeles District of the U.S. Army Corps of Engineers will prepare a DEIS to support the Matilija Dam Ecosystem Restoration Feasibility Study, Ventura County, California. The study area is the Matilija Dam area and downstream to the Venture River Estuary. This study will investigate feasible alternatives to restore the Matilija Creek riverine ecosystem, primarily by removing Matilija Dam. Also, feasible alternatives for the removal of sediment behind the dam and the beneficial use of that sediment will be investigated.

The DEIS will analyze the potential impacts (beneficial and adverse) on the environment of a range of alternatives, including the proposed action and the no action alternative. The Los Angeles District and the Ventura County Flood Control District will cooperate in conducting this feasibility study.

ADDRESSES: District Engineer, U.S. Army Corps of Engineers, Los Angeles District, ATTN: CESPL-PD-RQ (R. Farve), P.O. Box 532711, Los Angeles, California 90053-2325.

FOR FURTHER INFORMATION CONTACT: Mr. Rey Farve, Environmental Coordinator, telephone (213) 452-3864, or Mr. Jonathan Vivanti, Study Manager, telephone (213) 452-3809.

SUPPLEMENTARY INFORMATION:

1. Authorization

This feasibility study was authorized by U.S. House of Representatives Committee Resolution on Transportation and Infrastructure (Docket 2593), dated April 15, 1999, which states, in part: “that the Secretary of the Army is requested to review the report of the Chief of Engineers on the Ventura River, Ventura County, California, published as House Document 323, 77th Congress, 1st Session, and other pertinent reports, with a view to determining whether any modifications of the recommendations contained therein are advisable at this time, in the interest of environmental restoration and protection, and related purposes, with particular attention to restoring anadromous fish populations on Matilija Creek and returning natural sand replenishment to Ventura and other Southern California beaches.”

2. Background

Matilija Dam is located on Matilija Creek, a tributary of the Ventura River, approximately 16 miles upstream from the Pacific Ocean. The dam is located in Ventura County California, approximately 7 miles and 25 miles from the Cities of Ojai and Ventura, California, respectively. The feasibility study area currently includes the Matilija Dam and the area immediately upstream, and downstream of the dam to the Ventura River Estuary. The non-federal sponsor of the feasibility study is the Ventura County Flood Control District.

Matilija Dam was constructed in the late 1940's by Ventura County Flood Control to provide water storage for agricultural needs. Matilija Dam is a concrete arch structure 190 feet in height with an arc length of 620 feet at its crest. Sediment carried by Matilija Creek has deposited behind the dam and filled the reservoir, rendering the structure useless as a water storage facility. It is estimated that 6,000,000 cubic yards of sediment lies trapped behind the dam.

The dam no longer provides any flood control protection due to sedimentation behind the dam. There is some continued water supply use. The Casitas Municipal Water District currently operates the dam under a lease agreement from the County of Ventura, which expires in 2009. The operation is an integral part of the Robles/Casitas Reservoir water supply facilities and is estimated to currently contribute approximately 400 acre-feet of water per year. This water function, however, is projected to diminish rapidly as the reservoir continues to fill with sediments, and is expected to effectively cease by 2010 after the reservoir fills completely with sediment.

Presently, the dam is considered to be a major contributor to the declining numbers of steelhead trout in Matilija Creek. If no action is taken to secure passage for the steelhead trout to reach the upper watershed and its tributaries, the dam will continue to obstruct this endangered species, thereby limiting the amount of spawning and rearing habitat. In addition, the dam would continue to act as a barrier for wildlife movement for other terrestrial and aquatic species.

3. Alternatives

The feasibility study will focus on addressing the problems and needs caused by Matilija Dam with the primary objective of the feasibility study being to restore the Matilija Creek riverine ecosystem. Other objectives that are considered appropriate may involve possible beneficial use of the sediment behind the dam for beach nourishment or other environmental restoration.

In general, alternative plans will investigate reasonable alternatives to restore Matilija Creek, primarily by removing Matilija Dam. Feasible alternatives for the removal of sediment behind the dam and the beneficial use of that sediment will also be investigated. Significant beneficial impacts to the riverine ecosystem (especially to steelhead trout) are expected from restoration alternatives identified in the feasibility study.

4. Scoping Process

Participation of all interested Federal, State, and County agencies, groups with environmental interests, and any interested individuals are encouraged. Public involvement will be most beneficial and worthwhile in identifying the scope of pertinent, significant environmental issues to be addressed, identifying and eliminating from detailed study issues that are not significant, offering useful information such as published or unpublished data, providing direct personal experience or knowledge which informs decision making, and recommending suitable mitigation measures to offset potential impacts from the proposed action or alternatives.

A public scoping meeting is scheduled at the Ventura County Hall of Administration, County Board of Supervisors Meeting Room, 800 South Victoria Avenue, Ventura, CA 93009 at 7 pm on January 31, 2002. The purpose of the scoping meeting will be to gather information from the general public or interested organizations about issues and concerns that they would like to see addressed in the DEIS. Comments may be delivered in writing or verbally at the meeting or sent in writing to the Los Angeles District at the address given above. The scoping period will conclude March 12, 2002.

5. Availability of the DEIS

The DEIS is expected to be available to the public for review and comment beginning in the winter of 2004.

Luz D. Ortiz,
Army Federal Register Liaison Officer.

[FR Doc. 02-772 Filed 1-10-02; 8:45 am]

BILLING CODE 3710-KF-M